DEPARTMENT OF THE INTERIOR

National Park Service

[NPS-WASO-NAGPRA-NPS0024985; PPWOCRADN0-PCU00RP14.R50000]

Notice of Inventory Completion: Utah Museum of Natural History, Salt Lake City, UT

AGENCY: National Park Service, Interior.

ACTION: Notice.

SUMMARY: The Utah Museum of Natural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Utah Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Utah Museum of Natural History at the address in this notice by March 26, 2018.

ADDRESSES: Michelle Knoll, Utah Museum of Natural History, 301 Wakara Way, Salt Lake City, UT 84108, telephone (801) 581-3876, email mknoll@nhmu.utah.edu.

SUPPLEMENTARY INFORMATION: Notice is here given in accordance with the Native American Graves Protection and Repatriation Act (NAGPRA), 25 U.S.C. 3003, of the completion of an inventory of human remains and associated funerary objects under the control of the Utah Museum of Natural History, Salt Lake City, UT. The human remains and associated funerary objects were removed from 42GA34 (Coombs Village), Garfield County, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Utah Museum of Natural History professional staff in consultation with representatives of the Hopi Tribe of Arizona and the Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)), hereafter referred to as “The Consulted Tribes.” Requests for consultation were also sent to the Havasupai Tribe of the Havasupai Reservation, Arizona; Hualapai Indian Tribe of the Hualapai Indian Reservation, Arizona; Kaibab Band of Paiute Indians of the Kaibab Indian Reservation, Arizona; Las Vegas Tribe of Paiute Indians of the Las Vegas Indian Colony, Nevada; Moapa Band of Paiute Indians of the Moapa River Indian Reservation, Nevada; Navajo Nation, Arizona, New Mexico, and Utah; Pueblo of Jemez, New Mexico; Pueblo of Pojoaque, New Mexico; Pueblo of Zia, New Mexico; San Juan Southern Paiute Tribe of Arizona; and the Zuni Tribe of the Zuni Reservation, New Mexico, (hereafter referred to as “The Invited Tribes”).

History and Description of the Remains

In 1958 and 1959, human remains representing 37 individuals were removed by the University of Utah from privately-owned land in the town of Boulder, Garfield County, UT. One additional set of human remains and associated funerary objects were excavated by the University of Utah in 1969 after the property had been transferred to the State of Utah. The human remains and associated funerary objects were transferred from the University of Utah to the Utah Museum of Natural History in 1973. All of the human remains and associated funerary objects are currently in the possession of Anasazi State Park, but under the control of the Utah Museum of Natural History. Individual ages range from newborns to elderly and consist of both sexes. No known individuals were identified. The 97 associated funerary objects are 57 ceramic vessels, 12 lots ceramic sherds, 5 minerals, 5 lots debitage, 4 beads, 4 pendants, 4 chipped stone tools, 2 bone awls, 1 beaded necklace, 1 beaded bracelet, 1 seed, and 1 faunal bone. The majority of the ceramics were identified as Kayenta Branch Puebloan.

Coombs Village (42GA34) is an Ancestral Puebloan village site occupied circa A.D. 1070-1250. Most of the archeological lines of evidence clearly indicate a Kayenta Branch Puebloan occupation. The Kayenta Branch Puebloan are generally recognized as an Ancestral Puebloan group with direct ties to the Hopi Tribe of Arizona. The biological data from Coombs Village strongly supports this conclusion. The culture history line of evidence using linguistics is inconclusive and the Indian Claims Commission did not recognize the Eastern Plateaus district as the aboriginal homeland of the Hopi. However, migration evidence to and from this region using Hopi oral history and archeological evidence of Kayenta Branch Puebloan and Hopi presence in the region in the PIV period support a proposed shared group identity between the Kayenta Branch Puebloan occupants of Coombs Village and the Hopi Tribe of Arizona. Thus, the physical and culture history lines of evidence both support the Hopi Tribe of Arizona's claim of cultural affiliation. A draft cultural affiliation report was issued to The Consulted Tribes for their review and comments prior to any determination of cultural affiliation.

Determinations Made by the Utah Museum of Natural History

Officials of the Utah Museum of Natural History have determined that:

• Pursuant to 25 U.S.C. 3001(9), the human remains described in this notice represent the physical remains of 38 individuals of Native American ancestry.

• Pursuant to 25 U.S.C. 3001(3)(A), the ninety-seven objects described in this notice are reasonably believed to have been placed with or near individual human remains at the time of death or later as part of a death rite or ceremony.

• Pursuant to 25 U.S.C. 3001(2), there is a relationship of shared group identity that can be reasonably traced between the Native American human remains and associated funerary objects and the Hopi Tribe of Arizona.

Additional Requestors and Disposition

Lineal descendants or representatives of any Indian Tribe or Native Hawaiian organization not identified in this notice that wish to request transfer of control of these human remains and associated funerary objects should submit a written request with information in support of the request to Michelle Knoll, Utah Museum of Natural History, 301 Wakara Way, Salt Lake City, UT 84108, telephone (801) 581-3876, email mknoll@nhmu.utah.edu, by March 26, 2018. After that date, if no additional requestors have come forward, transfer of control of the human remains and associated funerary objects to the Hopi Tribe of Arizona may proceed.

The Utah Museum of Natural History is responsible for notifying The Consulted Tribes and The Invited Tribes that this notice has been published.

Dated: February 2, 2018.
Melanie O'Brien,
Manager, National NAGPRA Program.

[FR Doc. 2018-03753 Filed 2-22-18; 8:45 am]

BILLING CODE 4312-52-P